DEPARTMENT OF TRANSPORTATION

Federal Aviation Administration

First Meeting: RTCA Special Committee 228—Minimum Operational Performance Standards for Unmanned Aircraft Systems

AGENCY: Federal Aviation Administration (FAA), U.S. Department of Transportation (DOT).

ACTION: Notice of RTCA Special Committee 228—Minimum Operational Performance Standards for Unmanned Aircraft Systems.

SUMMARY: The FAA is issuing this notice to advise the public of a meeting of RTCA Special Committee 228—Minimum Operational Performance Standards for Unmanned Aircraft Systems.

DATES: The meeting will be held December 5, 2013 from 9:00 a.m. to 5:00 p.m.

ADDRESSES: The meeting will be held at RTCA, 1150 18th Street NW., Suite 910, Washington, DC 20036.

FOR FURTHER INFORMATION CONTACT: The RTCA Secretariat, 1150 18th Street NW., Suite 910, Washington, DC 20036, or by telephone at (202) 330-0662 or (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of RTCA Special Committee 228—Minimum Operational Performance Standards for Unmanned Aircraft Systems. The agenda will include the following:

Specific Working Group Sessions Before Plenary

December 3

All Day, Working Group 1-DAA, MacIntosh-NBAA Room & Colson Board Room. All Day, Working Group 2-C2, ARINC & Hilton-A4A Rooms.

December 4

All Day, Working Group 1-DAA, MacIntosh-NBAA Room & Colson Board Room, 9:00 a.m.-12:00/noon, Working Group 2-C2 will meet at NBAA, 1200 G Street, NW., Suite 1100, Washington, DC, 1:00 p.m.-5:00 p.m., Working Group 2-C2, ARINC & Hilton—A4A Rooms at RTCA.

Thursday, December 5

• Welcome and Introductions.

• Agenda Overview.

• Review/Approval of Minutes from Plenary #2 (RTCA Paper No. 219-13/SC-228-007).

• Review of RTCA SC-228 Steering Committee Activity.

• SSC-228 Terms of Reference—coordination with other SCs

○ Status of Discussions with SC-147.

• Review/Approval—New Document—SC-228 UAS Detect and Avoid (DAA) White Paper, RTCA Paper No. 236-13/SC-228-008.

• Review/Approval—New Document—SC-228 UAS Command and Control (C2) White Paper, RTCA Paper No. 237-13/SC-228-009.

• Briefing—NASA's Activity to Support SC-228.

• Other Business.

• Date and Place of Next Meeting.

• Adjourn.

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on June 6, 2013.
Paige L. Williams,
Management Analyst, Business Operations Group, ANG-A12, Federal Aviation Administration.

[FR Doc. 2013-27853 Filed 11-20-13; 8:45 am]

BILLING CODE 4910-13-P